DEPARTMENT OF TRANSPORTATION

Federal Aviation Administration

14 CFR Part 39

[Docket No. 2000-NM-392-AD; Amendment 39-12921; AD 2002-21-14]

RIN 2120-AA64

Airworthiness Directives; Boeing Model 757-200, -200CB, and -300 Series Airplanes

AGENCY: Federal Aviation Administration, DOT.

ACTION: Final rule.

SUMMARY: This amendment adopts a new airworthiness directive (AD), applicable to certain Boeing Model 757-200, -200CB, and -300 series airplanes. This AD requires determining the part numbers of the master control valve on the pressure bottles that activate the off-wing escape slides, and performing corrective action if necessary. This action is necessary to prevent failure of an escape slide to deploy or inflate correctly, which could cause the slide to be unusable during an emergency evacuation and result in consequent injury to passengers or crewmembers. This action is intended to address the identified unsafe condition.

DATES: Effective November 29, 2002. The incorporation by reference of certain publications listed in the regulations is approved by the Director of the Federal Register as of November 29, 2002.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Technical Information: Victor Wicklund, Aerospace Engineer, Airframe Branch, ANM-120S, FAA, Seattle Aircraft Certification Office, 1601 Lind Avenue, SW., Renton, Washington 98055-4056; telephone (425) 227-1426; fax (425) 227-1181.

Other Information: Judy Golder, Airworthiness Directive Technical Editor/Writer; telephone (425) 687-4241, fax (425) 227-1232. Questions or comments may also be sent via the Internet using the following address: judy.golder@faa.gov. Questions or comments sent via the Internet as attached electronic files must be formatted in Microsoft Word 97 for Windows or ASCII text.

SUPPLEMENTARY INFORMATION: A proposal to amend part 39 of the Federal Aviation Regulations (14 CFR part 39) to include an airworthiness directive (AD) that is applicable to certain Boeing Model 757-200, -200CB, and -300 series airplanes was published in the Federal Register on February 26, 2002 (67 FR 8741). That action proposed to require determining the part numbers of the master control valve on the pressure bottles that activate the off-wing escape slides, and corrective action, if necessary.

Comments

Interested persons have been afforded an opportunity to participate in the making of this amendment. Due consideration has been given to the comments received.

Support for the Proposal

Two commenters concur with the proposed AD. One additional commenter states that it does not operate any affected airplanes.

Revise Applicability Statement

One commenter requests that the FAA revise the applicability statement to specify “Model 757-200, -200CB, and -300 series airplanes, line numbers 1 through 905, equipped with an off-wing escape slide system, . . . .” The applicability statement of the proposed AD specifies “Model 757-200, -200CB, and -300 series airplanes, as listed in Boeing Special Attention Service Bulletin 757-25-0214 or 757-25-0216, both dated April 6, 2000, . . . .” The commenter states that revising the applicability statement would make it easier to identify affected airplanes without referring to the service information.

The FAA concurs and has revised the applicability statement of this final rule accordingly.

Identify Manufacturers

One commenter requests that we revise paragraphs (a)(1), (a)(2), and (b) of the proposed AD to identify the manufacturers associated with each of the part numbers listed in those paragraphs. The commenter states that this change would eliminate any confusion about the correct part number of the airplane manufacturer or vendor.

We concur and have revised paragraphs (a)(1), (a)(2), and (b) of this final rule accordingly.

Include Instructions to Deactivate Cargo Loading System

One commenter requests that Boeing Special Attention Service Bulletin 757-25-0216, dated April 6, 2000, include instructions to deactivate the aft cargo loading system on Boeing Model 757-300 series airplanes, if such a system is installed, before doing the proposed inspections and corrective actions.

Though the commenter provides no justification for the change, we infer that the commenter makes this recommendation in the interest of the safety of maintenance personnel. While this AD is not intended to address safety concerns related to cargo loading systems, we find that the commenter's recommendation represents a sound precaution that operators may want to consider when accomplishing the actions required by this AD. Therefore, we have added Note 2 to this final rule (and renumbered a subsequent note accordingly) to state that operators may want to deactivate any installed cargo handling system before undertaking the actions required by paragraph (a) of this AD.

Extend Compliance Time

One commenter, the airplane manufacturer, requests that we extend the proposed compliance time from 18 months to 36 months. The commenter states that a 36-month compliance time would allow operators to accomplish the necessary actions at a regularly scheduled maintenance interval. The commenter justifies its request by stating that, in the unlikely event an off-wing escape slide fails to automatically inflate, the escape slide can still be inflated using the manual inflation handle. Thus, the escape slide would still be available if needed for an emergency evacuation. The FAA acknowledges that the manual inflation handle provides a reduction of risk. Therefore, we concur that the compliance time for paragraph (a) of this AD may be extended to 36 months and yet still maintain an adequate level of safety in the fleet. We have revised paragraph (a) of this final rule accordingly.

Revise Cost Impact Estimate

One commenter disagrees with our estimate of the cost impact of the proposed AD. The commenter notes that the estimate only considers direct labor costs for removal and reinstallation of the valves and does not assess the costs that operators may incur for replacement or modification of the valves. The commenter states that, while the parts manufacturer has been exchanging the subject valves at no cost to operators, once the exchange program ends, operators will be charged for valve modification or exchange.

We infer that the commenter is requesting that we revise the cost estimate in this final rule to include an estimate of the cost of required parts if the parts are not covered by the parts manufacturer's exchange program. We concur. If an operator must purchase a replacement valve, we estimate that it will cost $15,000. We have revised the Cost Impact section of this final rule accordingly. We also have included a statement that the “parts manufacturer may cover the cost of replacement parts associated with this AD, subject to the conditions of its exchange program,” and, thus, the costs attributable to this AD may be less than stated.

Conclusion

After careful review of the available data, including the comments noted above, we have determined that air safety and the public interest require the adoption of the rule with the changes previously described. We have determined that these changes will neither increase the economic burden on any operator nor increase the scope of the AD.

Cost Impact

There are approximately 435 Model 757-200, -200CB, and -300 series airplanes of the affected design in the worldwide fleet. We estimate that 360 airplanes of U.S. registry will be affected by this AD, that it will take approximately 1 work hour per airplane to accomplish the required inspection, and that the average labor rate is $60 per work hour. Based on these figures, the cost impact of the inspection required by this AD on U.S. operators is estimated to be $21,600, or $60 per airplane.

Should an operator be required to accomplish the replacement of the valve and placard, it will take approximately 2 work hours per airplane to accomplish, at an average labor rate of $60 per work hour. Required parts will cost approximately $15,000. Based on these figures, the cost impact of the replacement is estimated to be $15,120 per airplane. The parts manufacturer may cover the cost of replacement parts associated with this AD, subject to the conditions of its exchange program. As a result, the costs attributable to this AD may be less than stated above.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-21-14 Boeing: Amendment 39-12921. Docket 2000-NM-392-AD.

Applicability: Model 757-200, -200CB, and -300 series airplanes; line numbers 001 through 905 inclusive; equipped with an off-wing escape slide system; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of an escape slide to deploy or inflate correctly, which could cause the slide to be unusable during an emergency evacuation and result in consequent injury to passengers or crewmembers, accomplish the following:

Inspection/Corrective Action

(a) Within 36 months after the effective date of this AD: Determine the part numbers (P/N) of the master control valve installed on each of the two pressure bottles located in the forward end of the aft cargo compartment that activate the off-wing escape slides, per Boeing Special Attention Service Bulletin 757-25-0214 (for Model 757-200 and 200CB series airplanes), or 757-25-0216 (for Model 757-300 series airplanes), both dated April 6, 2000, as applicable.

Note 2: To reduce the risk of accidental injury to maintenance personnel, operators may want to deactivate any installed cargo handling system before undertaking the actions required by paragraph (a) of this AD.

(1) If any P/N found on any valve is Boeing P/N S416N207-6 (Pacific Scientific P/N 42000802-1), before further flight, replace the affected valve with a new valve or rework the valve, as applicable; and replace the placard on the corresponding pressure bottle assembly with a new placard, per the applicable service bulletin.

(2) If the P/N shown on both valves is not Boeing P/N S416N207-6 (Pacific Scientific P/N 42000802-1), no further action is required by this paragraph.

Spares

(b) As of the effective date of this AD, no person shall install a master control valve, Boeing P/N S416N207-6 (Pacific Scientific P/N 42000802-1), on any airplane.

Alternative Methods of Compliance

(c) An alternative method of compliance or adjustment of the compliance time that provides an acceptable level of safety may be used if approved by the Manager, Seattle Aircraft Certification Office (ACO). Operators shall submit their requests through an appropriate FAA Principal Maintenance Inspector, who may add comments and then send it to the Manager, Seattle ACO.

Note 3: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Boeing Special Attention Service Bulletin 757-25-0214, dated April 6, 2000; or Boeing Special Attention Service Bulletin 757-25-0216, dated April 6, 2000; as applicable. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on November 29, 2002.

Issued in Renton, Washington, on October 16, 2002.
Michael Kaszycki,
Acting Manager, Transport Airplane Directorate, Aircraft Certification Service.

[FR Doc. 02-27080 Filed 10-24-02; 8:45 am]

BILLING CODE 4910-13-P